DEPARTMENT OF THE INTERIOR

Bureau of Land Management

[ES-010-1430-ET; FL-ES-051481]

Notice of Proposed Withdrawal Modification and Transfer of Jurisdiction; Florida

AGENCY: Bureau of Land Management, Interior.

ACTION: Notice.

SUMMARY: The United States Department of Veterans Affairs has filed an application to transfer jurisdiction of 49.83 acres of public land withdrawn for the Department of the Navy, Pensacola Naval Air Station. The land is needed for expansion of the Barrancas National Cemetery. The land has been and would remain closed to surface entry and mining, but not from leasing under the mineral leasing laws.

DATES: Comments must be received by June 19, 2002.

ADDRESSES: Comments should be sent to the Field Manager, BLM, 411 Briarwood Drive, Suite 404, Jackson, Mississippi 39206.

FOR FURTHER INFORMATION CONTACT: Duane Winters, Jackson Field Office, 601-977-5403.

SUPPLEMENTARY INFORMATION: The Department of Veterans Affairs has filed an application to transfer jurisdiction of the following described public lands, which were withdrawn from all forms of appropriation under the general land laws, including the mining laws, subject to valid existing rights for the Department of Navy, Pensacola Naval Air Station:

Tallahassee Meridian

T. 3 S., R. 30W.,

Tract 6.

The area described contains 49.83 acres in Escambia County.

The Department of Navy has determined that this land is no longer needed for the Pensacola Naval Air Station and has agreed to a transfer of the land to the Department of Veterans Affairs for expansion of the Barrancas National Cemetery.

For a period of 90 days from the date of publication of this notice, all persons who wish to submit comments, suggestions, or objections in connection with the proposed transfer of jurisdiction may present their views in writing to the Jackson Field Office of the Bureau of Land Management at the above address.

The application will be processed in accordance with the regulations set forth in 43 CFR 2300.

Bruce Dawson,
Field Manager.

[FR Doc. 02-6777 Filed 3-20-02; 8:45 am]

BILLING CODE 4310-GJ-P